DEPARTMENT OF COMMERCE

International Trade Administration

Department of Commerce: Industry Outreach in San Francisco, CA, for Climate Change Negotiations Under the UNFCCC

AGENCY: International Trade Administration, Department of Commerce.

ACTION: Notice of meeting.

SUMMARY: The U.S. Department of Commerce (DOC) will host a half-day roundtable for industry participants on September 10, 2009, in San Francisco, California, during which senior U.S. government officials will outline the draft negotiation text of a new agreement under the United Nations Framework Convention on Climate Change (UNFCCC), provide updates on recent developments, and solicit individual input from participants. The purpose of the industry roundtable is to allow private sector stakeholders, particularly industry and trade associations, to advise U.S. officials on the impact a new UNFCCC agreement could have on their respective operations and on associated commercial opportunities. The DOC anticipates additional outreach events will be held throughout the United States.

DATES: September 10, 2009.

ADDRESSES: To participate in the roundtable, please contact Stephan Crawford, Director, U.S. Commercial Service (U.S. Department of Commerce)—San Francisco, 250 Montgomery St., 14th Floor, San Francisco, CA 94104; 415-705-2301; Stephan.Crawford@mail.doc.gov.

SUPPLEMENTARY INFORMATION:

Participation

Any private sector participant may register to attend; space is limited and available on a first-come, first-serve basis. Participants who are unable to attend the event can call into a conference line to participate. Please contact Stephan Crawford, Director, Commercial Service (U.S. Department of Commerce)—San Francisco, at 415-705-2301 or Stephan.Crawford@mail.doc.gov to request the conference call-in information.

The United Nations Framework Convention on Climate Change—The UNFCCC was signed in 1992 in Rio de Janeiro, Brazil, and entered into force on March 21, 1994. Currently, 192 states have ratified the Convention, including the United States. The treaty requires national inventories of greenhouse gas emissions from developed countries, and encourages national action to stem greenhouse gas emissions and slow climate change. Developed nations also pledge to share technology and resources with developing nations.

Kyoto Protocol to the United Nations Framework Convention on Climate Change—The Kyoto Protocol was adopted in December 1997, entered into force on February 16, 2005, and has been ratified by 184 countries and the European Community. While the United States signed the document, the U.S. Senate has never ratified the treaty. The Kyoto Protocol sets binding emissions targets for 37 industrialized countries, includes mechanisms for measuring and reporting emissions, and provides for financing and technology assistance to developing countries. The Protocol will expire at the end of 2012.

Current UNFCCC Negotiations—Negotiations under the UNFCCC are underway to formulate a successor agreement to the Kyoto Protocol. The discussions have the goal of concluding an agreement in Copenhagen this December. Potential impacts on U.S. industrial competitiveness will be discussed during the upcoming roundtable including technology transfer, intellectual property, financing, and related commercial opportunities.

Cheryl McQueen,
Acting Director, Office of Energy and Environmental Industries, U.S. Department of Commerce.

[FR Doc. E9-20904 Filed 8-28-09; 8:45 am]

BILLING CODE 3510-DR-P